DEPARTMENT OF THE INTERIOR

National Park Service

[NPS-WASO-NAGPRA-NPS0037914; PPWOCRADN0-PCU00RP14.R50000]

Notice of Inventory Completion: Metropolitan State University of Denver, Department of Sociology and Anthropology, Denver, CO

AGENCY: National Park Service, Interior.

ACTION: Notice.

SUMMARY: In accordance with the Native American Graves Protection and Repatriation Act (NAGPRA), the Metropolitan State University of Denver (MSU Denver), Department of Sociology and Anthropology has completed an inventory of human remains and has determined that there is a cultural affiliation between the human remains and Indian Tribes or Native Hawaiian organizations in this notice.

DATES: Repatriation of the human remains in this notice may occur on or after June 12, 2024.

ADDRESSES: Michala Stock, MSU Denver Department of Sociology and Anthropology, Campus Box 28, Cherry Creek Building, Room 239, Denver, CO 80217-3362, telephone (303) 605-7433, email mstock3@msudenver.edu.

SUPPLEMENTARY INFORMATION: This notice is published as part of the National Park Service's administrative responsibilities under NAGPRA. The determinations in this notice are the sole responsibility of the MSU Denver Department of Sociology and Anthropology, and additional information on the determinations in this notice, including the results of consultation, can be found in the inventory or related records. The National Park Service is not responsible for the determinations in this notice.

Abstract of Information Available

Based on the information available, human remains representing, at least, eight individuals have been reasonably identified. No associated funerary objects are present.

Prior to 1987, human remains representing, at minimum, eight individuals were accessioned as inadvertent finds during archaeological excavations in the State of Colorado. The human remains consist of cranial and postcranial skeletal remains. University records indicate that this institution has conducted archaeological excavations throughout the state; however, archival records lack more specific geographical provenience for these individuals.

Cultural Affiliation

Based on the information available and the results of consultation, cultural affiliation is reasonably identified by the geographical location or acquisition history of the human remains described in this notice.

Determinations

The MSU Denver Department of Sociology and Anthropology has determined that:

• The human remains described in this notice represent the physical remains of eight individuals of Native American ancestry.

• There is a reasonable connection between the human remains described in this notice and the Apache Tribe of Oklahoma; Cheyenne and Arapaho Tribes, Oklahoma; Comanche Nation, Oklahoma; Eastern Shoshone Tribe of the Wind River Reservation, Wyoming; Fort Belknap Indian Community of the Fort Belknap Reservation of Montana; Jicarilla Apache Nation, New Mexico; Navajo Nation, Arizona, New Mexico, & Utah; Northern Arapaho Tribe of the Wind River Reservation, Wyoming; Northern Cheyenne Tribe of the Northern Cheyenne Indian Reservation, Montana; Shoshone-Bannock Tribes of the Fort Hall Reservation; Southern Ute Indian Tribe of the Southern Ute Reservation, Colorado; The Osage Nation; and the Ute Mountain Ute Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 12, 2024. If competing requests for repatriation are received, the MSU Denver Department of Sociology and Anthropology must determine the most appropriate requestor prior to repatriation. Requests for joint repatriation of the human remains are considered a single request and not competing requests. The MSU Denver Department of Sociology and Anthropology is responsible for sending a copy of this notice to the Indian Tribes and Native Hawaiian organizations identified in this notice.

Authority: Native American Graves Protection and Repatriation Act, 25 U.S.C. 3003, and the implementing regulations, 43 CFR 10.10.

Dated: May 3, 2024.
Melanie O'Brien,
Manager, National NAGPRA Program.

[FR Doc. 2024-10329 Filed 5-10-24; 8:45 am]

BILLING CODE 4312-52-P